DEPARTMENT OF ENERGY

Energy Information Administration

Energy Information Administration Policy for Publicly Releasing Planned Electric Generating Unit Information for Years 1998-2000; Policy Statement

AGENCY: Energy Information Administration (EIA), DOE.

ACTION: Policy Statement. Energy Information Administration Policy for Publicly Releasing Planned Electric Generating Unit Information for Years 1998-2000.

SUMMARY: The EIA has modified its policy and will publicly release EIA survey information collected regarding planned electric generating units for the years 1998, 1999, and 2000.

DATES: This policy becomes effective on January 12, 2007.

ADDRESSES: Requests for information or questions about this policy should be directed to Mr. Kevin Lillis of EIA's Electric Power Division. Mr. Lillis may be contacted by phone (202-287-1757), FAX (202-287-1934), or e-mail (kevin.lillis@eia.doe.gov). His mailing address is Electric Power Division, EI-53, Forrestal Building, U.S. Department of Energy, 1000 Independence Ave., SW., Washington, DC 20585.

FOR FURTHER INFORMATION CONTACT: Requests for additional information about this policy should be directed to Mr. Lillis at the address listed above. Information on EIA's Electric Power Program is available on EIA's Internet site at http://www.eia.doe.gov/fuelelectric.html.

SUPPLEMENTARY INFORMATION:

I. Background

II. Discussion of Comments

III. Current Actions

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The purpose of EIA's Electric Power Program is to collect and disseminate basic and detailed data to meet EIA's mandates and energy data users' needs for credible, reliable, and timely information on U.S. electric capacity, generation, sales, trade, transmission, and pricing. Prior to 1998, information collected by EIA on planned electric power generating units was considered as nonconfidential and was publicly available. With increasing competition and restructuring of the electric power industry, EIA collected information on planned electric generating units for the years 1998, 1999, and 2000 and stated that it would treat that information as confidential. After reconsidering the need to treat planned electric generating unit information as confidential, consulting with EIA survey respondents and customers, and obtaining Office of Management and Budget approval, EIA changed its policy. Planned electric generating unit information for calendar years 2001 and later has been collected as nonconfidential and is publicly available.

EIA received a request under the Freedom of Information Act (5 U.S.C. 552) for the planned generating unit information for calendar years 1998-2000. Given that such information prior to 1998 and after 2000 is publicly available, EIA undertook a process to determine whether the planned unit data for 1998-2000 should continue to be withheld or should be publicly released. EIA sent a letter to 963 respondents who reported having planned generating units in the 1998-2000 time period on Form EIA-860A, “Annual Electric Generating Report—Utility,” and/or Form EIA-860B, “Annual Electric Generating Report—Non-Utility,” on this issue. The letters were mailed on August 24 and August 28, 2006.

The letter asked respondents whether they objected to the public release of the information on planned electric generating units for the years 1998-2000. Respondents were asked to reply by September 29, 2006. Any respondent objecting to the release was requested to provide “EIA with specific details on why your information for 1998-2000 on planned generating units/facilities is sensitive and proprietary and how public release of the information would cause substantial competitive harm to your company.”

As of October 18, 2006, EIA received 52 responses to its letter. Of the 52 responses, 47 stated that they had no objection to the release of the information from 1998-2000 on planned electric generating units. Five respondents objected to the release of the planned electric generating unit information. Thus, less than one percent of the companies that reported planned electric generating unit information for 1998-2000 objected to the public release of that information.

II. Discussion of Comments

Five companies objected to the release of the 1998-2000 information on planned electric generating units but none specifically addressed how public release of the information would cause substantial competitive harm to the company.

III. Current Actions

The information at issue is planned electric generating unit data for 1998, 1999 and 2000. As of October 2006, that information is over six years old. Planned electric generating unit information collected after 2000 is currently treated as non-confidential and is publicly available. Each survey respondent was provided with an opportunity to provide specific details on why its information for 1998-2000 on planned electric generating units was sensitive and proprietary and how public release of the information would cause substantial competitive harm to the company. Based on the fact that most of the responding companies support this change and the fact that the small number of companies who objected provided no details to show that releasing this historical information would cause substantial competitive harm, EIA's policy regarding the planned electric generating unit information for the period 1998-2000 will be considered as non-confidential and the planned electric generating unit information for the 1998-2000 time period will be made publicly available.

Statutory Authority: Section 52 of the Federal Energy Administration Act (Pub. L. 93-275, 15 U.S.C. 790a).

Issued in Washington, DC, December 11, 2006.
Jay H. Casselberry,
Agency Clearance Officer, Energy Information Administration.

[FR Doc. E6-21369 Filed 12-14-06; 8:45 am]

BILLING CODE 6450-01-P